COMMITTEE FOR PURCHASE FROM PEOPLE WHO ARE BLIND OR SEVERELY DISABLED

Procurement List; Proposed additions and deletions

AGENCY: Committee for Purchase From People Who Are Blind or Severely Disabled.

ACTION: Proposed Additions to and Deletions from the Procurement List.

SUMMARY: The Committee is proposing to add products and services to the Procurement List that will be furnished by nonprofit agencies employing persons who are blind or have other severe disabilities, and deletes products and services previously furnished by such agencies.

DATES: Comments must be received on or before: June 17, 2018.

ADDRESSES: Committee for Purchase From People Who Are Blind or Severely Disabled, 1401 S Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN(s)—Product Name(s):

8415-00-NIB-1222—Trunks, Army National Guard (ARNG), Unisex, X-Small

8415-00-NIB-1223—Trunks, Army National Guard (ARNG), Unisex, Small

8415-00-NIB-1224—Trunks, Army National Guard (ARNG), Unisex, Medium

8415-00-NIB-1225—Trunks, Army National Guard (ARNG), Unisex, Large

8415-00-NIB-1226—Trunks, Army National Guard (ARNG), Unisex, X-Large

8415-00-NIB-1227—Trunks, Army National Guard (ARNG), Unisex, XX-Large

8415-00-NIB-1228—Trunks, Army National Guard (ARNG), Unisex, XXX-Large

8415-00-NIB-1229—Sweatshirt, Army National Guard (ARNG), Unisex, X-Small

8415-00-NIB-1230—Sweatshirt, Army National Guard (ARNG), Unisex, Small

8415-00-NIB-1231—Sweatshirt, Army National Guard (ARNG), Unisex, Medium

8415-00-NIB-1232—Sweatshirt, Army National Guard (ARNG), Unisex, Large

8415-00-NIB-1233—Sweatshirt, Army National Guard (ARNG), Unisex, X-Large

8415-00-NIB-1234—Sweatshirt, Army National Guard (ARNG), Unisex, XX-Large

8415-00-NIB-1235—Sweatshirt, Army National Guard (ARNG), Unisex, XXX-Large

8415-00-NIB-1236—T-shirt, Army National Guard (ARNG), Unisex, X-Small

8415-00-NIB-1237—T-shirt, Army National Guard (ARNG), Unisex, Small

8415-00-NIB-1238—T-shirt, Army National Guard (ARNG), Unisex, Medium

8415-00-NIB-1239—T-shirt, Army National Guard (ARNG), Unisex, Large

8415-00-NIB-1240—T-shirt, Army National Guard (ARNG), Unisex, X-Large

8415-00-NIB-1241—T-shirt, Army National Guard (ARNG), Unisex. XX-Large

8415-00-NIB-1242—T-shirt, Army National Guard (ARNG), Unisex, XXX-Large

8415-00-NIB-1243—Pants, Army National Guard (ARNG), Unisex, X-Small/Regular

8415-00-NIB-1244—Pants, Army National Guard (ARNG), Unisex, Small/Short

8415-00-NIB-1245—Pants, Army National Guard (ARNG), Unisex, Small/Long

8415-00-NIB-1246—Pants, Army National Guard (ARNG), Unisex, Medium/Short

8415-00-NIB-1247—Pants, Army National Guard (ARNG), Unisex, Medium/Regular

8415-00-NIB-1248—Pants, Army National Guard (ARNG), Unisex, Medium/Long

8415-00-NIB-1249—Pants, Army National Guard (ARNG), Unisex, Large/Short

8415-00-NIB-1250—Pants, Army National Guard (ARNG), Unisex, Large/Regular

8415-00-NIB-1251—Pants, Army National Guard (ARNG), Unisex, Large/Long

8415-00-NIB-1252—Pants, Army National Guard (ARNG), Unisex, X-Large/Short

8415-00-NIB-1253—Pants, Army National Guard (ARNG), Unisex, X-Large/Regular

8415-00-NIB-1254—Pants, Army National Guard (ARNG), Unisex, X-Large/Long

8415-00-NIB-1255—Pants, Army National Guard (ARNG), Unisex, XX-Large/Regular

8415-00-NIB-1273—Pants, Army National Guard (ARNG), Unisex, Small/Regular

Mandatory Source of Supply: Winston Salem Industries for the Blind, Winston-Salem, NC

Mandatory For: 100% of the requirement of the Army National Guard

Contracting Activity: Army National Guard—2100W9133N

Distribution: C-List

NSN(s)—Product Name(s): 2540-01-165-6136—Chock, Wheel-Track, Wood, 7-3/4″ x 5-3/4″

Mandatory Source(s) of Supply: NewView Oklahoma, Inc., Oklahoma City, OK

Mandatory for: 100% of the requirement of the Department of Defense

Contracting Activity: Defense Logistics Agency Land and Maritime

Distribution: C-List

NSN(s)—Product Name(s): 4330-01-189-1007—Filter-Separator, Liquid Fuel

Mandatory Source(s) of Supply: Georgia Industries for the Blind, Bainbridge, GA

Mandatory for: 100% of the requirement of the Department of Defense

Contracting Activity: Defense Logistics Agency Land and Maritime

Distribution: C-List

NSN(s)—Product Name(s): 7490-00-NIB-0051—Lamination Machine, Office, 3-5Mil Pouches, 18.5″ L x 6.38″ W x 3.06″ H, 3.75 lbs., Black and Silver

Mandatory Source(s) of Supply: LC Industries, Inc., Durham, NC

Mandatory for: Total Government Requirement

Contracting Activity: General Services Administration, New York, NY

Distribution: A-List

Services

Service Type: Total Facility Management Service

Mandatory for: National Institutes of Health, NIH Animal Center, 16701 Elmer School Road, Dickerson, MD 20842

Mandatory Source(s) of Supply: Skookum Educational Programs, Bremerton, WA

Contracting Activity: National Institutes of Health

Service Type: Mailroom Service

Mandatory for: Bureau of Engraving and Printing, Office of Financial Management, 14th & C Streets SW, Washington, DC

Mandatory Source(s) of Supply: Melwood Horticultural Training Center, Inc., Upper Marlboro, MD

Contracting Activity: Bureau of Engraving and Printing, BEP Office of Acquisition

Deletions

The following products and services are proposed for deletion from the Procurement List:

Products

NSN(s)—Product Name(s):

MR 1162—Apron, Father's Day

MR 1188—MR Towel Set, Christmas, Includes Shipper 11188

MR 1189—Drying Mat, Microfiber, Holiday Themed

MR 864—Refill, Lint Roller

Mandatory Source(s) of Supply: Alphapointe, Kansas City, MO

Contracting Activity: Defense Commissary Agency

NSN(s)—Product Name(s):

MR 302—Silicone Batter Spoon

MR 303—Silicone Whisk

MR 304—Silicone Tong w/Locking Handle

MR 318—Set, Mixing Bowl, Spill-Free, 3PC

MR 328—Silicone Mini Brush

MR 329—Silicone Mini Turner

MR 351—Containers, Storage, 20PG

MR 358—Serving Bowl, Patriotic, Plastic 7Qt

MR 1056—Mop, Spray, Wet

Mandatory Source(s) of Supply: Industries for the Blind, Inc., West Allis, WI

Contracting Activity: Defense Commissary Agency

NSN(s)—Product Name(s):

MR 10657—Pop Tart Saver, Includes Shipper 20657

MR 10658—Loopity Loop Sipper, 11-Ounce, Includes Shipper 20658

MR 10659—Container Set, Soup and Salad, Includes Shipper 20659

MR 10731—Garden Colander. Includes Shipper 20731

MR 10732—Hershey's Lava Cake Maker, Shipper 20732

MR 10733—Reese's Lava Cake Maker, Shipper 20732

Mandatory Source(s) of Supply: Winston-Salem Industries for the Blind, Inc., Winston-Salem, NC

Contracting Activity: Defense Commissary Agency

NSN(s)—Product Name(s): MR 3211—Ouchless Headband Flat

Mandatory Source(s) of Supply: Association for Vision Rehabilitation and Employment, Inc., Binghamton, NY

Contracting Activity: Defense Commissary Agency

NSN(s)—Product Name(s): MR 896—Turner, Flexible, Thin, 11.5″ × 12″ × 4″

Mandatory Source(s) of Supply: Cincinnati Association for the Blind, Cincinnati, OH

Contracting Activity: Defense Commissary Agency

Services

Service Type: Janitorial and Custodial Service

Mandatory for: Naval & Marine Corps Reserve Center, 1600 West Lafayette Ave., Moundsville, WV

Mandatory Source(s) of Supply: Russell Nesbitt Services, Inc., Wheeling, WV

Mandatory for: Marine Corps Reserve Center, 615 Kenhorst Boulevard, Reading, PA

Mandatory Source(s) of Supply: Quality Employment Services and Training, Inc., Lebanon, PA

Service Type: Consolidated Base Operation Support (BOS) Service

Mandatory for: Marine Corps Reserve Center, 615 Kenhorst Boulevard, Reading, PA

Naval & Marine Corps Reserve Center, 1600 Lafayette Ave, Moundsville, WV

Mandatory Source(s) of Supply: Human Technologies Corporation, Utica, NY

The following information is applicable to all services listed above.

Contracting Activity: Dept of the Navy, Naval FAC Engineering CMD MID LANT

Amy Jensen,
Director, Business Operations.

[FR Doc. 2018-10668 Filed 5-17-18; 8:45 am]

BILLING CODE 6353-01-P